DEPARTMENT OF DEFENSE

Department of the Army

Proposed Revision to MTMC Freight Rules Publication No. 1B (MFTRP 1B), Item 70 (“Capacity Load”)

AGENCY: Military Traffic Management Command, DOD.

ACTION: Notice (request for comments).

SUMMARY: The Military Traffic Management Command (MTMC) as the Department of Defense (DOD) Traffic Manager for surface and surface inter-modal traffic management services (DTR vol. 2, pgs 201-13 through 201-14) intends to replace the entire text of the existing MFTRP 1B item 70 (“Capacity Load”) with the revised item outlined herein. The purpose of this change is to streamline and clarify the application of capacity load by motor carriers doing business with DOD shippers.

DATES: Comments must be submitted on or before May 11, 2001.

ADDRESSES: Comments may be mailed to: MTMC Deployment Support Command, ATTN: MTDC-OPCF, Room 207, 661 Sheppard Place, Fort Eustis, VA 23604-1644.

FOR FURTHER INFORMATION CONTACT: Mr. Stephen Lord at (757) 878-8547 (e-mail at lords@mtmc.army.mil) or Mr. Tom Mutchek at (757) 878-8503 (e-mail mutchekt@mtmc.army.mil).

SUPPLEMENTARY INFORMATION: The proposed effective date for this change is 1 July 2001 and it will modify the way in which the Global Freight Management System (GFM) calculates line-haul charges for capacity load shipments. The intent of this proposed change is to simplify and clarify the existing item in order to facilitate accurate upfront costing by the GFM system and to reduce the potential for post-shipment cost disputes between shippers and carriers. The current MFTRP 1B item reads as follows: Capacity Load (Item 70):

1. A shipment is considered a capacity load (also known as “loaded to full visible capacity”, “loaded to capacity”) when it occupies the full visible capacity of a vehicle or requires additional vehicles and consists of that quantity of freight which:

a. Occupies at least 90 percent of the available loading space; or

b. Because of unusual shape or dimensions, or because of the necessity for segregation or separation from other freight, requires the entire vehicle; or

c. Fills a vehicle so that no additional article in the shipping form tendered can be loaded in or on the vehicle.

2. For the purposes of this ITEM, a “vehicle” or “trailer” means:

a. A van trailer of not less than forty (40) feet in length and not less than 2,700 cubic feet capacity; or

b. A double-type van trailer (equipment Code AY1) thirty (30) feet and less in length and not less than 1,800 cubic feet in capacity; or

c. An open top trailer of not less than forty (40) feet in length, propelled or drawn by a single power unit and used on the highways in the transportation of property.

3. This rule does not apply to: charges based on rate qualifiers DH, DL, DZ, PG, PJ, PV, PY, ST; charges based upon equipment code designators AD, AD6, A10, A16, or A20.

4. a. The charge for each vehicle loaded to full visible capacity will be based on either the truckload charge, when Rate Qualifiers PL and PM are used; or the highest truckload minimum weight (or actual weight if in excess of the applicable minimum weight) and accompanying truckload rate applicable to the equipment ordered and loaded.

b. When line-haul charges are based upon Rate Qualifier PQ and the equipment offered in item 13, section A of the tender, is a double-type van trailer (equipment code AY1), the highest minimum weight for capacity load charges will be 30,000 pounds rated at the carrier's PQ rate for 30,000 pounds, applicable to the shortest route mileage from point of origin to final destination, determined by use of the governing mileage guide. When line-haul charges are based upon Rate Qualifiers other than PL, PM, or PQ, and the equipment offered in item 13, section A of the tender is a double-type van trailer (equipment code AY1), the highest minimum weight for capacity load will also be 30,000 pounds. Carriers offering AY1 equipment will provide this minimum weight and applicable truckload rate in their appropriate tenders. This proposal will replace Item 70 with the text shown below: Capacity Load (Item 70):

1. A shipment is considered a capacity load (also known as “loaded to full visible capacity”, “loaded to capacity”) when it occupies the full visible capacity of a vehicle, as defined in paragraph 2 below. In order for a shipment to be classified as a capacity load, the BoL must be annotated as “Vehicle Fully Loaded” with an authorized person (e.g., Transportation Officer, Transportation Assistant, etc.), having full knowledge of the shipment, initialing the BoL at the time of pick-up. Shipments are to be considered as capacity loads if:

a. The shipment occupies 90% of the cargo carrying capacity of the vehicle; or

b. Because of unusual shape or dimensions the shipment requires the entire vehicle.

c. Fills a vehicle so that no additional article, equivalent in size to the largest piece tendered, can be loaded in or on the vehicle.

2. For the purposes of this ITEM, a “vehicle” is defined as:

a. A van trailer of not less than forty (40) feet in length and not less than 2,700 cubic feet capacity; or

b. An open top trailer of not less than forty (40) feet in length, or

c. A flatbed trailer of not less than forty (40) feet in length.

3. Under no circumstances shall a carrier bill a shipment as a capacity load if the equipment requested by the shipper, or provided by the carrier, fails to meet the definitions shown in paragraph 2 above. Additionally, it is the carrier's responsibility to efficiently load freight (e.g., stacking items when appropriate, etc.) on the vehicle provided.

4. a.The charge for each vehicle loaded to full visible capacity will be based on either the truckload charge, when Rate Qualifiers PL and PM are used; or the highest truckload minimum weight (or actual weight if in excess of the applicable minimum weight) and accompanying truckload rate applicable to the equipment ordered and loaded. Under no circumstances will a line-haul charge be calculated using a minimum weight greater than 45,000 lbs.

b. Shipments rated using line-haul charges based upon Rate Qualifier PQ (MTMC Class 100 Rates) will be calculated using the greater of the actual weight or 45,000 lbs.

Note: All over-dimensional or overweight shipments, as defined in ITEM 415 and ITEM 416, respectively, are subject to the Spot Bid provisions of ITEM 18, paragraph 7.

5. This policy does not apply to charges based on rate qualifiers: DH (Per CWT per Dromedary Shipment), DL (Per Dromedary Service Shipment), DZ (Per CWT Per Mile Per Dromedary Shipment), PG (Per Gallon), and ST (Per Short Ton). Additionally, this policy does not apply to equipment types: AD (Dromedary Box without mechanical restraining devices), AD6 (Dromedary Box with mechanical restraining devices), A10 (410 Dromedary Box without mechanical restraining devices), A16 (410 Dromedary Box with mechanical restraining devices), or A20 (Motor Vehicle Transport Trailer). In the event that additional dromedary rate qualifiers and/or dromedary equipment codes are developed, this change shall not apply to them as well.

6. The application of capacity load will in no way restrict the carrier from adding additional freight to the equipment and should not be interpreted as a request for Exclusive Use of the vehicle.

Regulatory Flexibility Act

This change is not considered rule making within the meaning of the Regulatory Flexibility Act, 5 U.S.C. 601-612.

Paperwork Reduction Act

The Paperwork Reduction Act, 44 U.S.C. et seq., does not apply because no information collection requirements or recordkeeping responsibilities are imposed on offerors, contractors, or members of the public.

Gregory D. Showalter,
Army Federal Register Liaison Officer.

[FR Doc. 01-6056 Filed 3-9-01; 8:45 am]

BILLING CODE 3710-08-U